FEDERAL ACCOUNTING STANDARDS ADVISORY BOARD

Call for Candidates

AGENCY: Federal Accounting Standards Advisory Board.

ACTION: Request for nominations.

This Notice reopens the application period announced in the Federal Register on January 27, 2011 (January Notice) in order to identify additional candidates. Any applicant who provided the Federal Accounting Standards Advisory Board (FASAB or the Board) with the requested materials in response to the January Notice will be considered for appointment and need not resubmit materials, although they are permitted to supplement their applications with new or additional information.

DATES: Applications must be postmarked or electronically transmitted on or before July 15, 2011. All applications will be acknowledged by e-mail or phone within 48 hours of receipt. Applicants not receiving an acknowledgement should contact the FASAB offices at (202) 512-7350 no later than July 19, 2011 to ensure that the materials were received.

ADDRESSES: Persons wishing to submit applications should send the information described below to: Wendy Payne, Designated Federal Officer, by e-mail to fasab@fasab.gov; by U.S. mail or commercial delivery service to: Federal Accounting Standards Advisory Board, Attn: Wendy Payne, Mailstop 6K17V, 441 G Street, NW., Washington, DC 20548; or by facsimile transmission to (202) 512-7366.

FOR FURTHER INFORMATION CONTACT: Wendy Payne at (202) 512-7350, or paynew@fasab.gov.

SUPPLEMENTARY INFORMATION: Pursuant to 31 U.S.C. 3511(d), the Federal Advisory Committee Act (Pub. L. 92-463), as amended, and the FASAB Rules of Procedure, as amended in October 2010, notice is hereby given that the FASAB is currently seeking candidates (current federal employees are not eligible for appointment) to serve on the Board. Appointments to the Board are made jointly by the Secretary of the Treasury, the United States Comptroller General, and the Director of the Office of Management and Budget.

FASAB is the body designated to establish generally accepted accounting principles for federal government entities. Generally, non-federal Board members are selected from the general financial community, the accounting and auditing community, or academics. Specifically, FASAB is particularly interested in candidates who have experience as: Analysts of financial information, Economists or forecasters, Academics, Auditors, Preparers of financial information, or those otherwise knowledgeable regarding the use of financial information in decision-making.

The Board meets in Washington, DC, for two days every other month. Members are compensated for 24 days service per year based on current federal executive salaries. Travel expenses related to meeting attendance are reimbursed in accordance with federal travel regulations.

All parties wishing to be considered should submit their full name, address, telephone number and e-mail address and a brief summary identifying how their education, training, experience, or other factors would support the FASAB's work. They should also include a detailed résumé or curriculum vitae (CV).

Additional information about the FASAB can be obtained from its Web site at http://www.fasab.gov.

Authority: Federal Advisory Committee Act, Pub. L. 92-463.

Dated: June 16, 2011.
Charles Jackson,
Federal Register Liaison Officer.

[FR Doc. 2011-15387 Filed 6-20-11; 8:45 am]

BILLING CODE 1610-02-P